DEPARTMENT OF HOUSING AND URBAN DEVELOPMENT

[Docket No. FR-4565-N-17]

Notice of Proposed Information Collection: Comment Request; Monthly Reports for Establishing Net Income

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: September 15, 2000.

ADDRESSES: Interested persons are invited to submit comments regarding this proposal. Comments should refer to the proposal by name and/or OMB Control Number and should be sent to: Wayne Eddins, Reports Management Officer, Department of Housing and Urban Development, 451 7th Street, SW, Washington, DC 20410, telephone (202) 708-5221 (this is not a toll-free number) for copies of the proposed forms and other available information.

FOR FURTHER INFORMATION CONTACT: Willie Spearmon, Department of Housing and Urban Development, 451 7th Street, SW, Washington, DC 20410, telephone (202) 708-3000, (this is not a toll-free number) for copies of the proposed forms and other available.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information;

Title of Proposal: Monthly Reports for Establishing Net Income.

OMB Control Number, if applicable: 2502-0108.

Description of the need for the information and proposed use: Field Office staff use Monthly Accounting Reports to assess the need for remedial actions to correct project deficiencies or to prevent a potential default of the project of the project mortgage. HUD Forms 93480 and 93481 are related to the project owners costs. When a project is experiencing rent collection problems, expenses directly effect this income. Loan Servicers are responsible for reviewing trends in a project's expenses and income.

Agency form numbers, if applicable: HUD-93479, 93480, 93481.

Estimation of the total numbers of hours needed to prepare the information collection including number of respondents, frequency of response, and hours of response: The number of respondents for each form (HUD-93479, 93480, and 93481) is 4,000, the frequency of responses per form is one per month (12 yearly). The number of responses for the 3 forms is 48,000, for a total of 144,000 responses per year. The hours per response is 1.50 hours for HUD-93479, 1 hour for forms HUD-93480 and HUD-93481, estimating the annual burden hours requested to be 168,000.

Status of the proposed information collection: Reinstatement, without change, of previously approved collection for which approved has expired.

Authority: The Paperwork Reduction Act of 1995, 44 U.S.C. Chapter 35, as amended.

Dated: July 6, 2000.
William C. Apgar,
Assistant Secretary for Housing-FHC.

[FR Doc. 00-17969 Filed 7-14-00; 8:45 am]

BILLING CODE 4210-27-M